DEPARTMENT OF TRANSPORTATION

National Highway Traffic Safety Administration

[Docket No. NHTSA-2016-0074]

Denial of Motor Vehicle Defect Petition

AGENCY: National Highway Traffic Safety Administration (NHTSA), Department of Transportation.

ACTION: Denial of petition for a defect investigation.

SUMMARY: This notice sets forth the reasons for the denial of a petition submitted to NHTSA under 49 U.S.C. 30162, requesting that the agency commence a proceeding to determine the existence of a defect related to motor vehicle safety in 2015 and 2016 Shasta Airflyte recreational vehicles. After a review of the petition and other information, NHTSA has concluded that all but one of the issues identified in the petition have been addressed through one of three other remedial actions. The one issue not addressed by another action was found not to represent an unreasonable risk to motor vehicle safety. The agency accordingly has denied the petition. The petition is hereinafter identified as DP15-008.

FOR FURTHER INFORMATION CONTACT: Mr. Nate Seymour, Medium & Heavy Duty Vehicle Division, Office of Defects Investigation (ODI), NHTSA, 1200 New Jersey Ave. SE., Washington, DC 20590. Telephone: (202) 366-2069.

SUPPLEMENTARY INFORMATION: By letter dated September 1, 2015, Mrs. Amy Green wrote to NHTSA requesting that the agency investigate eleven (11) issues identified in her letter.

NHTSA has reviewed the material provided by the petitioners and other pertinent data the agency gathered. The results of this review and NHTSA's analysis of the petition's merit is set forth in the DP15-008 Evaluation Report, appearing in the public docket referenced in the heading of this notice.

Forest River has recalled four (4) of the eleven (11) issues. One issue was addressed with a Technical Service Bulletin (TSB), five (5) were addressed in a consent order issued July 8, 2015 and it is unlikely that an order concerning notification and remedy of a safety-related defect would be issued as a result of granting Mrs. Amy Green's request for the one remaining issue. Therefore, an investigation into the issues raised by the petition does not appear to be warranted and the petition is denied.

Authority: 49 U.S.C. 30162(d); delegations of authority at CFR 1.95 and 501.8.

Gregory K. Rea,
Associate Administrator for Enforcement.

[FR Doc. 2016-15788 Filed 7-1-16; 8:45 am]

BILLING CODE 4910-59-P